DEPARTMENT OF TRANSPORTATION

Federal Aviation Administration

14 CFR Part 39

[Docket No. FAA-2021-0340; Project Identifier MCAI-2020-01638-R]

RIN 2120-AA64

Airworthiness Directives; Airbus Helicopters (Type Certificate Previously Held by Eurocopter France) Helicopters

AGENCY: Federal Aviation Administration (FAA), DOT.

ACTION: Notice of proposed rulemaking (NPRM).

SUMMARY: The FAA proposes to supersede Airworthiness Directive (AD) 2003-25-01 which applies to certain Eurocopter France (now Airbus Helicopters) Models AS332C, AS332C1, AS332L, AS332L1, AS350B, AS350BA, AS350B1, AS350B2, AS350B3, AS350D, AS355E, AS355F, AS355F1, AS355F2, and AS355N helicopters. AD 2003-25-01 requires modifying and re-identifying the hoist operator control unit and replacing certain fuses. Since the FAA issued AD 2003-25-01, Airbus Helicopters has identified multiple errors in the applicable service information for the AS350-series and AS355-series helicopters. This proposed AD would retain certain requirements of AD 2003-25-01, revise the applicability, and propose to require using the corrected service information. This proposed AD would also require reporting certain information and prohibit the installation of an affected hoist until the required actions are accomplished. The FAA is proposing this AD to address the unsafe condition on these products.

DATES: The FAA must receive comments on this proposed AD by June 14, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Helicopters, 2701 N Forum Drive, Grand Prairie, TX 75052; telephone (972) 641-0000 or (800) 232-0323; fax (972) 641-3775; or at https://www.airbus.com/helicopters/services/technical-support.html. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0340; or in person at Docket Operations between 9 a.m. and 5 p.m., Monday through Friday, except Federal holidays. The AD docket contains this NPRM, the Direction Generale De L'Aviation Civile (DGAC) AD, the European Union Aviation Safety Agency (EASA) AD, any comments received, and other information. The street address for Docket Operations is listed above.

FOR FURTHER INFORMATION CONTACT: Hal Jensen, Aerospace Engineer, Operational Safety Branch, Compliance & Airworthiness Division, FAA, 950 L'Enfant Plaza N SW, Washington, DC 20024; telephone (202) 267-9167; email hal.jensen@faa.gov.

SUPPLEMENTARY INFORMATION:

Comments Invited

The FAA invites you to send any written relevant data, views, or arguments about this proposal. Send your comments to an address listed under ADDRESSES. Include “Docket No. FAA-2021-0340; Project Identifier MCAI-2020-01638-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Hal Jensen, Aerospace Engineer, Operational Safety Branch, Compliance & Airworthiness Division, FAA, 950 L'Enfant Plaza N SW, Washington, DC 20024; telephone (202) 267-9167; email hal.jensen@faa.gov. Any commentary that the FAA receives which is not specifically designated as CBI will be placed in the public docket for this rulemaking.

Background

The FAA issued AD 2003-25-01, Amendment 39-13384 (68 FR 69596, December 15, 2003) (AD 2003-25-01), for Eurocopter France (now Airbus Helicopters) Model AS332C, C1, L, and L1, AS350B, BA, B1, B2, B3, and D, and AS355E, F, F1, F2, and N helicopters with a Breeze 300 pound electric hoist (hoist) and hoist operator control unit 26M part number (P/N) 350A63-1136-00 or 350A63-1136-01, and hoist electric box 91M P/N 332A67-2875-00, installed. AD 2003-25-01 requires modifying and re-identifying the hoist operator control unit, replacing the fuses, and functionally testing the hoist operation and emergency jettison controls. AD 2003-25-01 was prompted by French AD 2002-584(A) and 2002-585(A), each dated November 27, 2002 (AD 2002-584(A) and AD 2002-585(A)), issued by DGAC, which is the aviation authority for France. AD 2002-584(A) corrects an unsafe condition for Eurocopter France Model AS332C, C1, L, and L1 helicopters with a certain hoist and hoist box installed. AD 2002-585(A) corrected an unsafe condition for Eurocopter France Model AS350B, BA, BB, B1, B2, B3, and D, and AS355E, F, F1, F2, and N helicopters with a certain hoist and hoist box installed and without a certain modification (MOD) installed. DGAC advised of the discovery of a failure of a rescue hoist emergency release control system to operate due to an anomaly in the electrical control circuit. This condition, if not addressed, could result in an inability of the pilot to cut the rescue hoist cable in the event of cable entanglement or other emergency, and subsequent loss of control of the helicopter.

Accordingly, AD 2002-584(A) requires compliance with Eurocopter Alert Service Bulletin (ASB) No. 25.01.18, dated November 12, 2002, to install MOD 332PCS 78 288. AD 2002-585(A) required compliance with Eurocopter ASB No. 25.00.71 or 25.00.79, each dated November 12, 2002, as applicable to your model helicopter, to install MOD 07 3190.

Actions Since AD 2003-25-01 Was Issued

Since the FAA issued AD 2003-25-01, EASA, which is the Technical Agent for the Member States of the European Union, issued EASA AD 2019-0228, dated September 12, 2019 (EASA AD 2019-0228) to supersede DGAC AD 2002-585(A). EASA AD 2019-0228 corrects an unsafe condition for Airbus Helicopters (AH), formerly Eurocopter, Eurocopter France, Aerospatiale Model AS 350 B, AS 350 BA, AS 350 BB, AS 350 B1, AS 350 B2, AS 350 B3, AS 350 D, AS 355 E, AS 355 F, AS 355 F1, AS 355 F2, and AS 355 N helicopters. EASA advises that Airbus Helicopters identified translation errors in the service information required for compliance by DGAC AD 2002-585(A). Airbus Helicopters was also informed that there could be helicopters modified by that service information with incorrect installations. Prompted by these findings, Airbus Helicopters revised the related service information. Therefore, EASA issued EASA AD 2019-0228 to accomplish the MOD as intended by DGAC AD 2002-585(A) with the revised service information. EASA AD 2019-0228 also requires reporting certain information to Airbus Helicopters and prohibits the installation of an affected part on any helicopter unless it has been modified.

Since the FAA issued AD 2003-25-01, the FAA discovered that the applicability needed to be revised. This NPRM revises the applicability by distinguishing the hoist box installations by P/N, clarifying that Airbus Helicopters service information refers to a hoist box as a hoist operator's control unit, adding TRW, Lucas, and Air Equipement hoists for affected Model AS350-series and AS355-series helicopters, and adding an exception for affected helicopters to exclude those with a certain MOD installed.

Lastly, since the FAA issued AD 2003-25-01, Eurocopter France changed its name to Airbus Helicopters. This AD reflects that change and updates the contact information to obtain service documentation.

FAA's Determination

These helicopters have been approved by both the authority of France and EASA and are approved for operation in the United States. Pursuant to the FAA's bilateral agreement with the European Union, DGAC and EASA have notified the FAA about the unsafe condition described in their ADs. The FAA is proposing this AD after evaluating all known relevant information and determining that the unsafe condition described previously is likely to exist or develop on other helicopters of these same type designs.

Related Service Information Under 1 CFR Part 51

The FAA reviewed Airbus Helicopters ASB No. 25.00.71, Revision 2, dated May 14, 2019 (ASB 25.00.71 Rev 2), Airbus Helicopters ASB No. 25.00.79, Revision 3, dated September 24, 2019 (ASB 25.00.79 Rev 3), and Eurocopter ASB No. 25.01.18, dated November 12, 2002 (ASB 25.01.18). ASB 25.00.71 Rev 2 applies to Model AS355-series helicopters, ASB 25.00.79 Rev 3 applies to Model AS350-series helicopters, and ASB 25.01.18 applies AS332-series helicopters.

ASB 25.00.71 Rev 2 and ASB 25.00.79 Rev 3 specify procedures to install MOD 07 3190, which consists of eliminating resistor 27M in the hoist operator's control unit 26M and replacing the 2.5A quick-response fuses on the Honeywell unit at 30 alpha or 21 delta for Model AS350-series helicopters or on the distribution panel 10 alpha for Model 355-series helicopters. ASB 25.00.71 Rev 2 and ASB 25.00.79 Rev 3 also specify reporting certain information to Airbus Helicopters. ASB 25.01.18 specifies procedures to install MOD 332PCS 78 288, which consists of eliminating resistor 81M in hoist box 91M and re-identifying the hoist box as 332P67-2894-01, -02, -03, or -04, depending on which electrical wiring assembly is installed in the helicopter.

This service information is reasonably available because the interested parties have access to it through their normal course of business or by the means identified in the ADDRESSES section.

Other Related Service Information

The FAA also reviewed Airbus Helicopters ASB No. 25.00.71, Revision 1, dated May 21, 2014 (ASB 25.00.71 Rev 1), and ASB No. 25.00.79, Revision 1, dated May 21, 2014 (ASB 25.00.79 Rev 1) and Revision 2 (ASB 25.00.79 Rev 2), dated May 14, 2019.

ASB 25.00.71 Rev 1 specifies the same actions as ASB 25.00.71 Rev 2, except ASB 25.00.71 Rev 2 provides a reminder that MOD 07 3190 is mandatory and adds a reporting response form. ASB 25.00.79 Rev 1 and ASB 25.00.79 Rev 2 specify the same actions as ASB 25.00.79 Rev 3, except ASB 25.00.79 Rev 2 provides a reminder that MOD 07 3190 is mandatory and adds a reporting response form and ASB 25.00.79 Rev 3 adds Model AS350L1 to the effectivity.

Proposed AD Requirements in This NPRM

This proposed AD would retain certain requirements of AD 2003-25-01. This proposed AD would continue to require modifying and re-identifying the hoist operator control unit, replacing the fuses, and functionally testing the hoist operation and emergency jettison controls; however, this proposed AD would require accomplishing those actions by following revised service information for affected Model AS350-series and AS355-series helicopters. For affected Model AS350-series and AS355-series helicopters, this proposed AD would also require sending certain information to the Technical Support Department of Airbus Helicopters. Lastly, this proposed AD would prohibit installing an affected hoist unless the proposed actions are accomplished.

Differences Between This Proposed AD and the EASA AD

EASA AD 2019-0228 applies to Model AS350BB helicopters, whereas this proposed AD would not because that model is not FAA type-certificated. EASA AD 2019-0228 requires modifying affected parts within 100 flight hours or 2 months, whichever occurs first, whereas this proposed AD would require those actions before next flight involving a hoist operation for Model AS350-series and AS355-series helicopters instead.

Costs of Compliance

The FAA estimates that this AD affects up to 977 helicopters of U.S. Registry. Labor rates are estimated at $85 per work-hour. Based on these numbers, the FAA estimates that operators may incur the following costs in order to comply with this proposed AD.

Modifying and re-identifying the hoist operator control unit, replacing the fuses, and functionally testing the hoist operation and the emergency jettison controls would take about 4 work hours and parts would cost about $20 for an estimated cost of $360 per helicopter and up to $351,720 for the U.S. fleet.

For Model AS350-series and AS355-series helicopters, reporting information would take about 1 work-hour for an estimated cost of $85 per helicopter and up to $82,195 for the U.S. fleet.

Paperwork Reduction Act

A federal agency may not conduct or sponsor, and a person is not required to respond to, nor shall a person be subject to penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2003-25-01, Amendment 39-13384 (68 FR 69596, December 15, 2003); and

b. Adding the following new airworthiness directive:

Airbus Helicopters (Type Certificate Previously Held by Eurocopter France): Docket No. FAA-2021-0340; Project Identifier MCAI-2020-01638-R.

(a) Comments Due Date

The FAA must receive comments on this airworthiness directive (AD) action by June 14, 2021.

(b) Affected ADs

This AD replaces AD 2003-25-01, Amendment 39-13384 (68 FR 69596, December 15, 2003) (AD 2003-25-01).

(c) Applicability

This AD applies to:

(1) Airbus Helicopters (type certificate previously held by Eurocopter France) Model AS332C, AS332C1, AS332L, and AS332L1 helicopters, certificated in any category, as follows:

(i) With a Breeze 300 pound electric hoist (hoist) installed,

(ii) Hoist box 91M part number (P/N) 332A67-2875-00 installed, and

(iii) Without Eurocopter modification (MOD) 332PCS 78 288, specified in Eurocopter Alert Service Bulletin (ASB) No. 25.01.18 dated November 12, 2002 (ASB No. 25.01.18) installed.

(2) Airbus Helicopters (type certificate previously held by Eurocopter France) Model AS350B, AS350BA, AS350B1, AS350B2, AS350B3, AS350D, AS355E, AS355F, AS355F1, AS355F2, and AS355N helicopters, certificated in any category, as follows:

Note 1 to paragraph (c)(2): Airbus Helicopters service information refers to a hoist box as a hoist operator's control unit.

(i) With a Breeze, TRW, Lucas, or Air Equipement 300 pound hoist installed,

(ii) With a hoist box 26M P/N 350A63-1136-00 (AS350-series) or 350A63-1136-01 (AS355-series) installed, and

(iii) Without Airbus Helicopters (Eurocopter) MOD 07 3190 installed.

(d) Subject

Joint Aircraft System Component (JASC) Code 2500, Cabin Equipment/Furnishings.

(e) Unsafe Condition

This AD was prompted by a test of a hoist that revealed an anomaly in the electrical control circuit. The FAA is issuing this AD to prevent failure of the hoist pyrotechnic squib electrical control unit. Lack of adequate current to activate the hoist pyrotechnic squib prohibits the ability of the pilot to cut the rescue hoist cable in the event of cable entanglement or other emergency. The unsafe condition, if not addressed, could result in subsequent loss of control of the helicopter.

(f) Compliance

Comply with this AD within the compliance times specified, unless already done.

(g) Required Actions

(1) For Model AS332C, AS332C1, AS332L, and AS332L1 helicopters identified in paragraph (c) of this AD, within 100 hours time-in-service or within 2 months, whichever occurs first from January 20, 2004 (the effective date of AD 2003-25-01), modify and re-identify the hoist operator control unit, replace the fuses, and functionally test the hoist operation and the emergency jettison controls in accordance with the Accomplishment Instructions, paragraph 2.B., Operational Procedure, of Eurocopter ASB No. 25.01.18.

(2) For Model AS350B, AS350BA, AS350B1, AS350B2, AS350B3, AS350D, AS355E, AS355F, AS355F1, AS355F2, and AS355N helicopters identified in paragraph (c) of this AD:

(i) Before next flight involving a hoist operation after the effective date of this AD, modify and re-identify the hoist operator control unit, replace the fuses, and functionally test the hoist operation and the emergency jettison controls in accordance with the Accomplishment Instructions, paragraph 2.B., Operational Procedure, of Airbus Helicopters ASB No. 25.00.71, Revision 2, dated May 14, 2019 (ASB 25.00.71 Rev 2), or Airbus Helicopters ASB No. 25.00.79, Revision 3, dated September 24, 2019 (ASB 25.00.79 Rev 3), as applicable to your model helicopter.

(ii) Within 30 days after accomplishing the actions required by paragraph (g)(2)(i) of this AD, report the information in Appendix 4.A. of ASB 25.00.71 Rev 2 or ASB 25.00.79 Rev 3, as applicable to your model helicopter, by email to support.technical-avionics.ah@airbus.com.

(3) As of the effective date of this AD, do not install a Breeze, TRW, Lucas, or Air Equipement 300 pound hoist identified in paragraphs (c)(1) or (2) of this AD unless the actions required by paragraphs (g)(1) or (2) have been accomplished, as applicable to your model helicopter.

(h) Credit for Previous Actions

Actions accomplished before the effective date of this AD by following the procedures in Airbus Helicopters ASB No. 25.00.71, Revision 1, dated May 21, 2014, or ASB No. 25.00.79, Revision 1, dated May 21, 2014 or Revision 2, dated May 14, 2019, as applicable to your model helicopter, are considered acceptable for compliance with the corresponding actions required in paragraph (g)(2)(i) of this AD. Accomplish the actions required by paragraph (g)(2)(ii) of this AD within 30 days after the effective date of this AD.

(i) Special Flight Permits

Special flight permits are prohibited for use of a Breeze, TRW, Lucas, or Air Equipement 300 pound hoist identified in paragraphs (c)(1) or (2) of this AD.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD. Information may be emailed to: 9-AVS-AIR-730-AMOC@faa.gov.

(2) Before using any approved AMOC, notify your appropriate principal inspector, or lacking a principal inspector, the manager of the local flight standards district office/certificate holding district office.

(k) Related Information

(1) For more information about this AD, contact Hal Jensen, Aerospace Engineer, Operational Safety Branch, Compliance & Airworthiness Division, FAA, 950 L'Enfant Plaza N SW, Washington, DC 20024; telephone (202) 267-9167; email hal.jensen@faa.gov.

(2) For service information identified in this AD, contact Airbus Helicopters, 2701 N Forum Drive, Grand Prairie, TX 75052; telephone (972) 641-0000 or (800) 232-0323; fax (972) 641-3775; or at https://www.airbus.com/helicopters/services/technical-support.html. You may view this referenced service information at the FAA, Office of the Regional Counsel, Southwest Region, 10101 Hillwood Pkwy., Room 6N-321, Fort Worth, TX 76177. For information on the availability of this material at the FAA, call (817) 222-5110.

(3) The subject of this AD is addressed in Direction Generale De L'Aviation Civile (DGAC) AD 2002-584(A), dated November 27, 2002, and European Union Aviation Safety Agency (EASA) AD 2019-0228, dated September 12, 2019. You may view the DGAC and EASA ADs on the internet at https://www.regulations.gov in Docket No. FAA-2021-0340.

Issued on April 22, 2021.
Lance T. Gant,
Director, Compliance & Airworthiness Division, Aircraft Certification Service.

[FR Doc. 2021-08782 Filed 4-27-21; 8:45 am]

BILLING CODE 4910-13-P